DEPARTMENT OF TRANSPORTATION

Federal Aviation Administration

14 CFR Part 91

[Docket No.: FAA-2019-0200]

Operators of Boeing Company Model 737-8 and Boeing Company Model 737-9 Airplanes: Rescission of Emergency Order of Prohibition

AGENCY: Federal Aviation Administration (FAA), Department of Transportation (DOT).

ACTION: Notification of Rescission of Emergency Order of Prohibition.

SUMMARY: The Emergency Order of Prohibition issued March 13, 2019, which restricted the operation of Boeing Company Model 737-8 and Boeing Company Model 737-9 airplanes, is rescinded, with effect as described in the rescission.

DATES: The Rescission of the Emergency Order of Prohibition is effective November 18, 2020 as to any Boeing Company Model 737-8 and 737-9 airplanes that hereafter receive FAA airworthiness certificates and export certificates of airworthiness, and any foreign-registered Boeing Company Model 737-8 and 737-9 airplanes operating in U.S. airspace. The Rescission of the Emergency Order of Prohibition is effective upon publication in the Federal Register of Airworthiness Directive 2020-24-02 as to all U.S.-registered Boeing Company Model 737-8 and 737-9 airplanes.

FOR FURTHER INFORMATION CONTACT: Ian Won, Federal Aviation Administration, Aircraft Certification Service, Seattle ACO Branch, 2200 South 216th Street, Des Moines, WA 98198 (Email: 9-FAA-SACO-AD-Inquiry@faa.gov; Tel: 206-231-3500).

SUPPLEMENTARY INFORMATION: The full text of the Rescission of the Emergency Order of Prohibition issued November 18, 2020 is set forth below:

Rescission of Emergency Order of Prohibition

The Federal Aviation Administration (FAA) Emergency Order of Prohibition issued March 13, 2019, applicable to Boeing Company Model 737-8 and Boeing Company Model 737-9 airplanes, is rescinded with effect as described below. This rescission enables operation of Boeing Company Model 737-8 and Boeing Company Model 737-9 airplanes only upon satisfaction of applicable requirements for return to service.

Background

When the Administrator determines that an emergency exists related to safety in air commerce and requires immediate action, the Administrator may issue immediately effective orders to meet the emergency. See 49 U.S.C. 46105(c). On March 13, 2019, upon receiving information indicating the possibility of a shared cause for accidents involving Boeing Model 737-8 airplanes operated by Lion Air (Flight 610) on October 29, 2018 and Ethiopian Airlines (Flight 302) on March 10, 2019, the FAA determined that an emergency existed and issued an Emergency Order of Prohibition that restricted the operation of Boeing Company Model 737-8 and Boeing Company Model 737-9 airplanes. See 84 FR 9705. Following issuance of such an order, the FAA is to begin a proceeding immediately about the emergency and give preference, when practicable, to the proceeding. See 49 U.S.C. 46105(c).

Basis for Rescission

The FAA determined that the Lion Air and Ethiopian Airlines accidents involved a common cause, identified an unsafe condition that existed in the product and was likely to exist or develop in other products of the same type design, and began proceedings to address the unsafe condition. On August 6, 2020, the FAA issued a notice of proposed rulemaking (NPRM) proposing an Airworthiness Directive that would apply to U.S.-registered Boeing Company Model 737-8 and Boeing Company Model 737-9 airplanes and would require owners and operators to complete certain corrective action necessary to address the unsafe condition. See 85 FR 47698. On November 18, 2020, after considering public comments on the NPRM, the FAA issued Airworthiness Directive 2020-24-02 as a final rule that requires certain corrective action to address the unsafe condition before further flight and conforms the aircraft to the amended Model 737-8 and 737-9 type designs that FAA approved on November 17, 2020. The Airworthiness Directive will become effective upon its publication in the Federal Register.

Together, the Airworthiness Directive and the design approval address the unsafe condition as to the existing U.S.-registered fleet of Boeing Company Model 737-8 and 737-9 airplanes and as to any Model 737-8 and 737-9 airplanes for which The Boeing Company hereafter seeks airworthiness certificates and export certificates of airworthiness. It is now practicable for the FAA to give preference to the proceedings that the FAA began in response to the emergency.

First, the Emergency Order of Prohibition is no longer necessary as to any Boeing Company Model 737-8 and 737-9 airplanes that hereafter receive original FAA airworthiness certificates and export certificates of airworthiness based on the amended type designs.

Second, for any Boeing Company Model 737-8 and 737-9 airplanes not falling into that first category, the Emergency Order of Prohibition is unnecessary as to foreign-registered airplanes operating in U.S. airspace. With respect to foreign-registered Boeing Company Model 737-8 and 737-9 airplanes, the FAA will apply Article 33 and Annex 8 of the Convention on International Civil Aviation (the Chicago Convention) to take appropriate action to restrict access to U.S. airspace and address any non-compliance with U.S. laws where the foreign civil aviation authority of the state of registry does not require conformance with the newly amended type design or an alternative that achieves at least an equivalent level of safety.

Finally, upon the publication of Airworthiness Directive 2020-24-02 in the Federal Register, the legal force of that Airworthiness Directive will supersede any need to apply the Emergency Order of Prohibition as to the existing U.S.-registered fleet of Boeing Company Model 737-8 and 737-9 airplanes that the FAA previously certificated. With respect to those airplanes, Airworthiness Directive 2020-24-02 requires corrective action before further flight.

Importantly, in the scenarios identified above, before returning Boeing Company Model 737-8 and 737-9 airplanes to service, operators must also meet all other applicable requirements, such as completing new training for pilots and conducting maintenance activity.

Rescission

For the foregoing reasons, the March 13, 2019 Emergency Order of Prohibition is rescinded as follows:

(1) Effective immediately as to any Boeing Company Model 737-8 and 737-9 airplanes that hereafter receive FAA airworthiness certificates and export certificates of airworthiness;

(2) Effective immediately as to any foreign-registered Boeing Company Model 737-8 and 737-9 airplanes operating in U.S. airspace; and

(3) Effective upon publication in the Federal Register of Airworthiness Directive 2020-24-02 as to all U.S.-registered Boeing Company Model 737-8 and 737-9 airplanes.

Rescission Contact Official

Direct any questions concerning this rescission, to Ian Won, Federal Aviation Administration, Aircraft Certification Service, Seattle ACO Branch, 2200 South 216th Street, Des Moines, WA 98198 (Email: 9/FAA/SACO/AD-Inquiry@faa.gov; Tel: 206-231-3500).

Issued in Washington, DC, on November 18, 2020.
Steve Dickson,
Administrator.

[FR Doc. 2020-25864 Filed 11-18-20; 4:15 pm]

BILLING CODE 4910-13-P